DEPARTMENT OF DEFENSE

Office of the Secretary

Meeting of the Defense Advisory Committee on Women in the Services (DACOWITS); Correction

AGENCY: Department of Defense.

ACTION: Notice; correction.

SUMMARY: On September 5, 2012 (77 FR 54568-54569), the Defense Advisory Committee on Women in the Services gave notice of a meeting to be held September 27, 2012, from 8:30 a.m. to 4:30 p.m. and September 28, 2012, from 1 p.m. to 4:30 p.m. in Alexandria, Virginia. Pursuant to Section 10(a), Public Law 92-463, as amended, the Department of Defense announces that the agenda for the September 27, 2012 meeting has changed. Also, the time for oral presentations by members of the public has been changed. Oral presentations by members of the public will now be permitted only on Thursday, September 27, 2012 from 3:15 p.m. to 4 p.m. in front of the full Committee. All other information in the notice remains the same.

Meeting Agenda

Thursday, September 27, 2012, 8:30 a.m.-4:30 p.m.

—Welcome, introductions, and announcements.

—Briefings—Service Retention Programs.

—Summary of Canada Visit.

—Briefing—Strategic Direction on Sexual Assault and Response Update.

—Briefing—Australian Defence Force Update.

—Briefing—Body Armor Demonstration.

—Public Comment Period.

ADDRESSES: Sheraton Suites, 801 North Saint Asaph St., Alexandria, VA 22314.

FOR FURTHER INFORMATION CONTACT: Mr. Robert Bowling or DACOWITS Staff at telephone (703) 697-2122 or email Robert.bowling@osd.mil.

Dated: September 11, 2012.
Aaron Siegel,
Alternate OSD Federal Register Liaison Officer, Department of Defense.

[FR Doc. 2012-22706 Filed 9-13-12; 8:45 am]

BILLING CODE 5001-06-P